DEPARTMENT OF ENERGY

Office of Energy Efficiency and Renewable Energy

10 CFR Part 430

[Docket No. EE-RM-97-900]

RIN 1904-AA76

Energy Conservation Program for Consumer Products; Energy Conservation Standards for Water Heaters

AGENCY: Department of Energy (DOE).

ACTION: Final rule; notice of review.

SUMMARY: The effective date of the final rule titled “Energy Conservation Program for Consumer Products; Energy Conservation Standards for Water Heaters'' (66 FR 4474, January 17, 2001) is January 20, 2004. Consistent with the memorandum of January 20, 2001, from the Assistant to the President and Chief of Staff, entitled “Regulatory Review Plan” (66 FR 7702, January 24, 2001), DOE today announces that contemporaneous with the review of other recently published final regulations it will be reviewing this final rule to determine whether further actions are warranted.

DATES: The effective date of the rule amending 10 CFR part 430 published in the Federal Register at 66 FR 4474 on January 17, 2001 remains January 20, 2004.

FOR FURTHER INFORMATION CONTACT: Michael D. Whatley, (202) 586-3410, michael.whatley@hq.doe.gov; Terry Logee, (202) 586-9127, terry.logee@ee.doe.gov; Francine Pinto, (202) 586-7432, francine.pinto@hq.doe.gov; or, Eugene Margolis, (202) 586-9526, eugene.margolis@hq.doe.gov.

Issued in Washington, D.C. on January 29, 2001.
Spencer Abraham,
Secretary of Energy.

[FR Doc. 01-2885 Filed 2-1-01; 8:45 am]

BILLING CODE 6450-01-P